FEDERAL RESERVE SYSTEM

12 CFR Part 229

[Regulation CC; Docket No. R-1160]

Availability of Funds and Collection of Checks

AGENCY: Board of Governors of the Federal Reserve System.

ACTION: Final rule; correction.

SUMMARY: On September 2, 2003, the Board of Governors published in the Federal Register a final rule amending appendix A of Regulation CC. The rule removed the reference to the Pittsburgh check processing office of the Federal Reserve Bank of Cleveland and reassigned the Federal Reserve routing symbols currently listed under that office to the head office of the Federal Reserve Bank of Cleveland. The rule also replaced all references to Thomson Financial Publishing Inc., in appendices A and E with more general references to “an agent of the American Bankers Association.” This document corrects the amendatory instructions for the removal of the reference to Thomson Financial Publishing Inc., in appendix, E. The original amendatory instruction would have caused the amended sentence in section II.DD. to contain duplicative references to the American Bankers Association agency arrangement.

DATES: The correction is effective on November 1, 2003 (i.e., the effective date of the final rule).

FOR FURTHER INFORMATION CONTACT: Adrianne G. Threatt, Counsel (202/452-3554), Legal Division. For users of Telecommunications Devices for the Deaf (TDD) only, contact 202/263-4869.

SUPPLEMENTARY INFORMATION: In the final rule, FR Doc. 03-22333 published on September 2, 2003, make the following correction:

Appendix E to Part 229—[Corrected]

On page 52078, in the first and second columns, correct amendatory language in amendment 3. to read as follows:

3. Appendix E is amended in section II.DD. by removing the phrase “Thomson Financial Publishing Inc., as agent for” and adding the phrase “an agent of” in its place, and in sections XVIII.A.2.b.ii. and XXII.B.2.b.i. by removing the phrase “Thomson Financial Publishing Inc.” and adding the phrase “an agent of the American Bankers Association” in its place.

By order of the Board of Governors of the Federal Reserve System, September 8, 2003.
Jennifer J. Johnson,
Secretary of the Board.

[FR Doc. 03-23239 Filed 9-11-03; 8:45 am]

BILLING CODE 6210-01-P